DEPARTMENT OF TRANSPORTATION

Federal Highway Administration

Environmental Impact Statement: Waukesha County, Wisconsin

AGENCY: Federal Highway Administration (FHWA), DOT.

ACTION: Notice of intent.

SUMMARY: The FHWA is issuing this notice to advise the pubic that an environmental impact statement will be prepared for transportation improvements in the State Trunk Highway (STH) 83 corridor between County Trunk Highway (CTH) “NN” at the north limits of the Village of Mukwonago and Interstate Highway 94 (IH-94) in Waukesha County, Wisconsin.

FOR FURTHER INFORMATION CONTACT: Mr. Richard C. Madrzak, Field Operations Engineer, Federal Highway Administration, 567 D'Onofrio Drive, Madison, Wisconsin 53719-2814; telephone: (608) 829-7510. You may also contact Ms. Carol Cutshall, Director, Bureau of Environment, Wisconsin Department of Transportation, P.O. Box 7965, Madison, Wisconsin, 53707-7965; telephone: (608) 266-9626.

SUPPLEMENTARY INFORMATION:

Electronic Access

An electronic copy of this document may be downloaded by using a computer, modem and suitable communications software from the Government Printing Offices' Electronic Bulletin Board Service at (202) 512-1661. Internet users may reach the Office of Federal Register's home page at: http://www.nara.gov/fedreg and the Government Printing Offices' database at: http://www.access.gpo.gov/nara.

Background

The FHWA, in cooperation with the Wisconsin Department of Transportation, will prepare a Draft Environmental Impact Statement (EIS) on a proposal to provide safety, operational and capacity improvements on an approximate 21 kilometers (13 miles) section of STH 83 between CTH “NN” at the north limits of the Village of Mukwonago and the vicinity of IH-94 in Waukesha County. The proposal is being considered to addresses existing and future transportation demand on STH 83 (as identified in the 2020 Regional Transportation System Plan for Southeastern Wisconsin), to improve safety, and to preserve land for future transportation improvements. The environmental impact statement will evaluate the social, economic and environmental impacts of alternatives, including: (1) No build, (2) improvements within the existing highway corridor, and (3) improvements on new location.

Information describing the proposed action and soliciting comments will be sent to appropriate Federal, State and local agencies and to private agencies and to private organizations and citizens who have expressed, or are known to have an interest in this proposal. A project advisory committee comprised of Federal and State agencies, local officials, environmental, and other community interests will be established to provide input during development and refinement of alternatives and impact evaluation activities. Public meetings and other forums will be held to solicit comments from citizens and interest groups. In addition, a public hearing will be held. Public notice will be given of the time and place of the meetings and hearing. The draft EIS will be available for public and agency review and comment prior to the public hearing. Agencies having an interest in or jurisdiction regarding the proposed action will be contacted through interagency coordination meetings and mailings.

To ensure that the full range of issues related to this proposed action are addressed, and all substantive issues are identified, comments and suggestions are invited from all interested parties. Comments or questions concerning this proposed action and the EIS should be directed to FHWA or the Wisconsin Department of Transportation at the addresses provided in the caption FOR FURTHER INFORMATION CONTACT

(Catalog of Federal Domestic Assistance Program Number 20.205, Highway Planning and Construction. The regulations implementing Executive Order 12372 regarding intergovernmental consultation on Federal programs and activities apply to this program)

Authority: 23 U.S.C. 315; 49 CFR 1.48.

Issued on: March 14, 2001.
Richard C. Madrzak,
Field Operations Engineer, Federal Highway Administration, Madison, Wisconsin.

[FR Doc. 01-7331 Filed 3-23-01; 8:45 am]

BILLING CODE 4910-22-M